DEPARTMENT OF JUSTICE

Antitrust Division

Notice Pursuant to the National Cooperative Research and Production Act of 1993—Space Enterprise Consortium

Notice is hereby given that, on October 27, 2020, pursuant to Section 6(a) of the National Cooperative Research and Production Act of 1993, 15 U.S.C. 4301 et seq. (“the Act”), Space Enterprise Consortium (“SpEC”)

has filed written notifications simultaneously with the Attorney General and the Federal Trade Commission disclosing changes in its membership. The notifications were filed for the purpose of extending the Act's provisions limiting the recovery of antitrust plaintiffs to actual damages under specified circumstances. Specifically,

Alliance Technology Group, LLC, Hanover, MD; BlackHays Group, Cedar Point, NC; CEB Metasystems, Inc., Los Alamitos, CA; Cyberspace Solutions, LLC, Herndon, VA; Dell Federal Systems L.P., Round Rock, TX; Electric Sky, Inc., Mercer Island, WA; Envistacom LLC, Atlanta, GA; FST International, LLC, Dulles, VA; GMV Innovating Solutions, Inc., Rockville, MD; Guardtime Federal, LLC, Alexandria, VA; ICR, Inc., Aurora, CO; II-VI Aerospace Defense, Murrieta, CA; Innovative Concepts Solutions, Greenbelt, MD; Kymeta Government Solutions, Inc., Redmond, WA; L3Harris Technologies, Fort Wayne, IN; Labsphere, Inc., North Sutton, NH; Launcher Space, Brooklyn, NY; Lunar Resources, Inc., Houston, TX; Micro Craft, Tullahoma, TN; Micro Focus Government Solutions, Vienna, VA; Microlink Devices, Inc., Niles, IL; Mobilestack Inc., Dublin, CA; Naval Systems Incorporated, Lexington, MD; OEwaves, Inc., Pasadena, CA; Oteemo, Inc., Chantilly, VA; PathFinder Digital LLC, Sanford, FL; PTC, Boston, MA; Rebellion Defense, Inc., Washington, DC; Special Aerospace Services, Boulder, CO; Spire Global, Inc., San Francisco, CA; Stryke Industries, Fort Wayne, IN; Systems and Proposal Engineering Company (dba SPEC Innovations), Manassas, VA; TechTrend, Fairfax, VA; UBERETHER, Inc., Sterling, VA; Virtualitics, Inc., Pasadena, CA; Visual Connections, Windsor Hill, MD; Vitro Technology Group, Austin, TX; Whitney, Bradley & Brown WBB, Inc., Reston, VA; and Xplore, Inc., Mercer Island, WA; have been added as parties to this venture.

Also, Decisive Analytics Corp., Arlington, VA; Dynetics Technical Solution, Huntsville, AL; Fairwinds, Annapolis, MD; Kubos, Denton, TX; Longbow Software, LLC, Englewood, CO; Metronome LLC, Fairfax, VA; Microwave Photonics, West Chester, PA; Optisys, West Jordan, UT; Orbital Science Corporation, Dulles, VA; Rocket Propulsion, Renton, WA; RoGo Fire, LLC, Westminster, CO; Systems Engineering Associates, Inc., Torrance, CA; and The NAVYS Corp., Colorado Springs, CO; have withdrawn as parties to this venture.

No other changes have been made in either the membership or planned activity of the group research project. Membership in this group research project remains open, and SpEC intends to file additional written notifications disclosing all changes in membership.

On August 23, 2018, SpEC filed its original notification pursuant to Section 6(a) of the Act. The Department of Justice published a notice in the Federal Register pursuant to Section 6(b) of the Act on October 2, 2018 (83 FR 49576).

The last notification was filed with the Department on July 28, 2020. A notice was published in the Federal Register pursuant to Section 6(b) of the Act on August 05, 2020 (85 FR 47404).

Suzanne Morris,
Chief, Premerger and Division Statistics Antitrust Division.

[FR Doc. 2020-25691 Filed 11-19-20; 8:45 am]

BILLING CODE P